Presidential Determination No. 2011-16 of September 15, 2011

Presidential Determination on Major Illicit Drug Transit or Major Illicit Drug Producing Countries for Fiscal Year 2012

Memorandum for the Secretary of State

Pursuant to section 706(1) of the Foreign Relations Authorization Act, Fiscal Year 2003 (Public Law 107-228)(FRAA), I hereby identify the following countries as major drug transit or major illicit drug producing countries: Afghanistan, The Bahamas, Belize, Bolivia, Burma, Colombia, Costa Rica, Dominican Republic, Ecuador, El Salvador, Guatemala, Haiti, Honduras, India, Jamaica, Laos, Mexico, Nicaragua, Pakistan, Panama, Peru, and Venezuela.

A country's presence on the Majors List is not necessarily an adverse reflection of its government's counternarcotics efforts or level of cooperation with the United States. Consistent with the statutory definition of a major drug transit or drug producing country set forth in section 481(e)(2) and (5) of the Foreign Assistance Act of 1961, as amended (FAA), one of the reasons that major drug transit or illicit drug producing countries are placed on the list is the combination of geographic, commercial, and economic factors that allow drugs to transit or be produced despite the concerned government's most assiduous narcotics control law enforcement measures.

Pursuant to section 706(2)(A) of the FRAA, I hereby designate Bolivia, Burma, and Venezuela as countries that have failed demonstrably during the previous 12 months to make substantial efforts to adhere to their obligations under international counternarcotics agreements and take the measures set forth in section 489(a)(1) of the FAA. Accompanying this report are justifications for the determinations on Bolivia, Burma, and Venezuela, as required by section 706(2)(B).

I have also determined, in accordance with provisions of section 706(3)(A) of the FRAA, that support for programs to aid Bolivia and Venezuela are vital to the national interests of the United States.

Afghanistan remains the world's largest producer of opium poppy and a major source of heroin. Primary trafficking routes from Afghanistan, where poppy cultivation is still mostly confined to the southern and western provinces, are through Iran to Turkey and Western Europe; through Pakistan to Africa, Asia, and the Middle East; and through Central Asia to the Russian Federation.

Helmand Province remains the largest grower of opium poppy in Afghanistan, but the Provincial Government's innovative Food Zone program, which provides farmers with wheat seed and fertilizer in exchange for a pledge not to grow poppy, coupled with credible law enforcement, has reduced Helmand's poppy cultivation by a third, to 69,883 hectares in 2009 and even further to 65,043 hectares in 2010. The U.S.-funded Governor Led Eradication (GLE) program has demonstrated progress in Helmand with 2,111 hectares eradicated by the end of May 2011. To date during 2011, a total of 3,827 hectares of GLE has been verified in 17 provinces throughout the country, an increase of more than 45 percent in eradication over the same time last year.

Although the amount of opium poppy cultivated in Pakistan is much less than Afghanistan, the country continues to qualify as a major drug producing country, with an estimated 1,700 hectares of opium poppy under cultivation. The country also remains a major transit country for opiates and hashish for markets around the world and is a transit country for precursor chemicals illegally smuggled to Afghanistan, where they are used to process heroin. Bilateral cooperation between Pakistan and the United States continues to support Pakistan's goal of returning to poppy-free status. United States Government support focuses especially on upgrading the institutional capacity of Pakistan's law enforcement agencies.

A number of indicators qualify the addition of El Salvador and Belize to the Majors List along with the remainder of Central American countries on the isthmus connecting South America to North America.

El Salvador, located between Guatemala and Nicaragua along the Pacific coastline and sharing an eastern border with Honduras, is subject to a number of factors making it vulnerable to the drug trade flowing to the United States from South America. The International Narcotics Control Board describes El Salvador as part of the so-called “northern triangle” with Guatemala and Honduras where “national gangs are forming alliances with international criminal syndicates.” According to the most recent U.S. interagency assessment of cocaine flows, the amount of this illicit substance passing through El Salvador destined directly for the United States was estimated at 4 metric tons in 2009.

The most recent U.S. assessment for Belize estimates the flow of drugs destined for the United States through this Central American country on the Caribbean coast at about 10 metric tons. Belize's vulnerability as a south-north avenue for the illegal narcotics trade is also demonstrated by recent drug and weapons seizures in Mexico along the border it shares with Belize. United States officials also report that drug control observers in Belize are increasingly concerned about the presence of drug trafficking organizations, including Los Zetas of Mexico, in the country's border areas and in coastal ports.

Considering the Central American region as a whole, the United States Government estimates that as much as 90 percent of some 700 metric tons of cocaine shipped annually from Colombia and other producing nations intended for the U.S. markets passes through the countries of Central America. This situation is an important element prompting the Central American Citizen Security Partnership, which I announced in March 2011. Through this partnership, the United States is working to refocus the impact of assistance through the Central American Regional Security Initiative (CARSI) and enhance the impact of complementary United States Government non-CARSI citizen safety and rule of law programs. Countries in the region are increasing coordination through the Central American Integration System, a combined effort to promote citizen security and economic prosperity, including programs aimed at thwarting the drug trade.

International documentation shows continued strengthening of illegal drug trafficking ties between South America and West Africa. West Africa is the closest point to South America for transatlantic purposes, and its close proximity to southern Europe provides a natural gateway to European drug markets. Porous borders, inadequate law enforcement, and corruption create a permissive environment for the illegal drug trade. West African linguistic connections among Brazil, Portugal, and Cape Verde may also contribute to narcotics trafficking.

According to the U.S. assessment of cocaine movement, about a third of cocaine destined for Europe passed through West Africa in 2009. The 2011 U.N. World Drug Report also states there are reports that cocaine from Latin America is being stockpiled in some West African countries for future distribution to Europe in smaller quantities.

Despite the range of domestic challenges, including corruption, West African countries have begun to consider narcotics control as a top national security priority. For example, in 2010, Liberian law enforcement successfully uncovered and interdicted a cache of cocaine valued at $100 million. A number of U.S. projects in West Africa are aimed at improving drug interdiction and investigation capabilities. The assistance provided by international donors and organizations to West African governments to improve their counternarcotics capability is increasingly urgent. The United States welcomes fresh impetus in 2010 and 2011 from the international community, especially the United Nations and the European Union, to make Africa a priority for drug-control assistance, to promote and protect the stability and positive growth of countries in Africa.

The stealth with which both marijuana and synthetic drugs such as MDMA (ecstasy) and methamphetamine are produced in Canada and trafficked to the United States makes it difficult to measure the overall impact of this smuggling. However, a special report prepared in May 2011 by the U.S. Drug Enforcement Administration states that “the threat posed by MDMA trafficking from Canada to and within the United States is significant.” For example, in April 2011, a seizure of 20 pounds of MDMA from a Canada-based trafficking group was made by U.S. law enforcement in Plattsburg, New York. The United States pledges a more robust engagement and dialogue with Canada to reduce the shared problem of illegal drug trafficking. The results of this bilateral redoubling of drug-control cooperation will be considered in the framework of next year's Presidential Determination.

You are hereby authorized and directed to submit this determination under section 706 of the FRAA, transmit it to the Congress, and publish it in the Federal Register.

THE WHITE HOUSE,

Washington, September 15, 2011

[FR Doc. 2011-24887

Filed 9-23-11; 11:15 am]

Billing code 4710-10-P